DEPARTMENT OF HEALTH AND HUMAN SERVICES

Administration for Children and Families

Notice of Award of Non-Competitive Grant

AGENCY: Administration on Children, Youth and Families (ACYF), ACF, DHHS.

ACTION: Notice; opportunity to comment.

SUMMARY: Notice is hereby given that ACYF is considering awarding grant funds without competition to the California Institute for Human Services (CIHS) at Sonoma State University for up to $3,000,000 of Head Start funds in FY 2002. And, pending the availability of Federal funds, and the continuing non-Federal support from the Hilton Foundation, ACYF will award up to $3,000,000 of Head Start funds per year for four additional fiscal years. The five-year project period would begin September 1, 2002 and end August 31, 2007. This award will be made to the CIHS to provide Federal support for a second phase of the public/private partnership between the Head Start Bureau and the Conrad N. Hilton Foundation to support the Hilton/Early Head Start Training Program.

The Hilton/Early Head Start Training Program, developed and implemented by the CIHS since the program began in 1997, provides a combination of training and technical assistance to local community teams throughout the nation, so that Early Head Start and Migrant and Seasonal Head Start programs can more effectively include infants and toddlers with disabilities and their families. The model supports high levels of involvement of such key stakeholders as the local Part C/Early Intervention providers and the parents of infants and toddlers with disabilities. The Hilton/Early Head Start model's support for ongoing follow-up coaching in every participating community is cited by local teams as essential to implementing local strategies addressing their programs' objectives for improving the inclusion of young children with disabilities and their families.

The CIHS staff developed and refined the program's SpecialQuest training model, trained the trainers and learning coaches on its use, and are uniquely qualified to provide direction and coordination for a timely implementation of a second phase of this project. ACF believes only CIHS has:

• The requisite staff resources, organizational capacity and experience to undertake this project in a manner that improves and expands upon the results already realized;

• A trained and coordinated national network of 140 learning coaches and 60 trainers with substantial experience delivering the SpecialQuest curriculum and on-site coaching;

• The capacity to retain and quickly mobilize this network for training and technical assistance activities in the 2002-2003 program year; and

• Substantial continued non-Federal support for a second phase of this project.

The Agency is providing members of the public, including qualified organizations which would be interested in competing for the funding if a competition were held, an opportunity to comment on the planned action.

Statutory Authority: This award will be made pursuant to the Head Start Act, as amended, 42 U.S.C. 9801 et seq. (CFDA: 93.600)

DATES: In order to considered, comments on this planned action must be received on or before July 1, 2002.

ADDRESSES: Interested parties, including qualified organizations which would be interested in competing for the funding if a competition were held, should write to: James O'Brien, Head Start Bureau, Administration on Children, Youth and Families (ACYF), Administration for Children and Families (ACF), Department of Health and Human Services. 330 C Street SW., room 2018, Washington, DC 20447.

FOR FURTHER INFORMATION CONTACT: James O'Brien, Head Start Bureau, at (202) 205-8646.

(Catalog of Federal Domestic Program Number 93.600, Project Head Start)
Dated: June 17, 2002.
Joan E. Ohl,
Commissioner, Administration on Children, Youth and Families.

[FR Doc. 02-15655 Filed 6-20-02; 8:45 am]

BILLING CODE 4184-01-M